DEPARTMENT OF AGRICULTURE

Report of Federal Financial Assistance Programs for Infrastructure Administered by USDA as Required by the Infrastructure Investment and Jobs Act

AGENCY: Office of the Chief Financial Officer, USDA.

ACTION: Notice.

SUMMARY: The Infrastructure Investment and Jobs Act (IIJA) requires that within 60 days of its enactment, each agency must submit to the Office of Management and Budget (OMB) and Congress a report listing all Federal financial assistance programs for infrastructure administered by the agency. The IIJA also requires that the report be published in the Federal Register. In accordance with that requirement, we are making available the report prepared by the U.S. Department of Agriculture.

FOR FURTHER INFORMATION CONTACT: Tyson Whitney, Office of the Chief Financial Officer, Director, Transparency and Accountability Reporting Division, United States Department of Agriculture, 1400 Independence Avenue SW, Washington, DC 20250-9011, 202-720-8978, tyson.whitney@usda.gov.

SUPPLEMENTARY INFORMATION: The Infrastructure Investment and Jobs Act (IIJA, Pub. L. 117-58) requires that within 60 days of its enactment (i.e., by January 14, 2022), each agency must submit to the Office of Management and Budget (OMB) and Congress a report listing all Federal financial assistance programs for infrastructure administered by the agency. The IIJA also requires that this 60-day report be published in the Federal Register. These requirements are reiterated in OMB Memorandum M-22-08, Identification of Federal Financial Assistance Infrastructure Programs Subject to the Build America, Buy America Provisions of the Infrastructure Investment and Jobs Act, which provides additional guidance to agencies.

In accordance with these requirements, the U.S. Department of Agriculture's (USDA's) 60-day report contains a list of infrastructure programs by Assistance Listing Number and Title from the following agencies: Agricultural Marketing Service, Food and Nutrition Service, National Institutes of Food and Agriculture, Natural Resources Conservation Service, Rural Business Cooperative Service, and Rural Utilities Service. Each listing identifies all domestic content procurement preferences applicable to the Federal financial assistance program, domestic content procurement preference requirements, applicable domestic content procurement preference requirements, and project descriptions.

Through this notice, we are making USDA's 60-day report available to the public. You may view the report on the internet at https://www.ocfo.usda.gov/FederalFinancialAssistancePolicy. Copies may also be obtained by writing to the individual listed under FOR FURTHER INFORMATION CONTACT.

Lynn Moaney,
Deputy Chief Financial Officer, U.S. Department of Agriculture.

[FR Doc. 2022-01047 Filed 1-19-22; 8:45 am]

BILLING CODE 3410-KS-P